ENVIRONMENTAL PROTECTION AGENCY

[EPA-HQ-OA-2023-0030; FRL-11355-01-OA]

Children's Health Protection Advisory Committee (CHPAC); Notice of Charter Renewal

AGENCY: Environmental Protection Agency (EPA).

ACTION: Notice of charter renewal.

Notice is hereby given that the Environmental Protection Agency (EPA) has determined that, in accordance with the provisions of the Federal Advisory Committee Act (FACA), 5 U.S.C. 1001 et seq., the Children's Health Protection Advisory Committee (CHPAC) is in the public interest and is necessary in connection with the performance of the EPA's duties. Accordingly, the CHPAC will be renewed for an additional two-year period. The purpose of the CHPAC is to provide advice and recommendations to the Administrator of the EPA on issues associated with development of regulations, guidance and policies to address children's health risks. Inquiries may be directed to Amelia Nguyen, Designated Federal Officer, CHPAC, U.S. EPA, OCHP, MC 1107W, 1200 Pennsylvania Avenue NW, Washington, DC 20460, Email: nguyen.amelia@epa.gov, Telephone: (202) 564-4268.

Dated: August 23, 2023.
Grace M. Robiou,
Director, Office of Children's Health Protection.

[FR Doc. 2023-18747 Filed 8-29-23; 8:45 am]

BILLING CODE 6560-50-P